DEPARTMENT OF STATE

[Public Notice 12884]

Notice of Public Meeting in Preparation for International Maritime Organization SDC 12

SUMMARY: The Department of State will conduct a public meeting at 1:00 p.m. on Monday, January 12, 2026, both in-person at Coast Guard Headquarters in Washington, DC, and via teleconference through Microsoft Teams. The primary purpose of the meeting is to prepare for the twelfth session of the International Maritime Organization's (IMO) Sub-Committee on Ship Design and Construction (SDC 12) to be held at IMO Headquarters in London, United Kingdom from Monday, January 19, 2026, to Friday, January 23, 2026. Members of the public may participate up to the capacity of the teleconference line, which can handle 500 participants or up to the seating capacity of the room if attending in-person. The meeting location will be the United States Coast Guard Headquarters, and the teleconference line will be provided to those who RSVP. To RSVP, participants should contact the meeting coordinator, LCDR Emily Sysko, by email at Emily.T.Sysko@uscg.mil. LCDR Emily Sysko will provide access information for in-person and virtual attendance.

FOR FURTHER INFORMATION CONTACT: Those who plan to participate may contact the meeting coordinator, LCDR Emily Sysko, by email at LCDR Emily Sysko@uscg.mil, by phone at 571-608-7756, or in writing at ATTN: LCDR Emily Sysko, 2703 Martin Luther King Jr. Ave. SE, Stop 7509, Washington DC 20593-7509, by January 07, 2026. Members of the public needing reasonable accommodation should advise LCDR Emily Sysko no later than January 07, 2025. Requests made after that date will be considered but might not be possible to fulfill.

SUPPLEMENTARY INFORMATION: The agenda items to be considered at SDC 12 include:

• Adoption of the agenda;

• Decisions of other IMO bodies;

• Revision of the Interim explanatory notes for the assessment of passenger ship systems' capabilities after a fire or flooding casualty (MSC.1/Circ.1369) and related circulars (7.42);

• Amendments to 2011 ESP Code (7.21);

• Revision of SOLAS chapters II-1 (part C) and V, and related instruments regarding steering and propulsion requirements, to address both traditional and non-traditional propulsion and steering systems (2.9);

• Development of engine control room alert management (ECRAM) performance standards (1.14);

• Guidelines for use of fibre-reinforced plastics (FRP) within ship structures (2.6);

• Experience-building phase for the reduction of underwater radiated noise from shipping (1.16);

• Development of a safety regulatory framework to support the reduction of GHG emissions from ships using new technologies and alternative fuels (3.8);

• Unified interpretation of provisions of IMO safety, security, environment, facilitation, liability and compensation-related conventions (7.1);

• Review and, if necessary, amendment of SOLAS regulations II-2/13.4.1.1 and 13.4.2.1 to clarify the requirements on escape arrangements from the lower part of machinery spaces (7.33);

• Development of amendments to chapter 6 of the 2009 MODU Code regarding electrical equipment capable of operation after shutdown (1.3);

• Development of amendments to chapter 15 of the FSS Code on enclosed spaces containing a nitrogen receiver or a buffer tank of nitrogen generator systems (7.31);

• Revision of the Guidelines for the application of plastic pipes on ships (resolution A.753(18)) (7.32);

• Biennial status report and provisional agenda for SDC 13;

• Election of Chair and Vice-Chair for 2027;

• Any other business;

• Report to the Maritime Safety Committee.

Please note: The IMO may, on short notice, adjust the SDC 12 agenda to accommodate the constraints associated with the virtual meeting format. Although no changes to the agenda are anticipated, if any are necessary, they will be provided to those who RSVP.

Additional information regarding this and other IMO public meetings may be found at: https://www.dco.uscg.mil/IMO.

(Authority: 22 U.S.C. 2656 and 5 U.S.C. 552)

Emily C. Miletello,
Coast Guard Liaison Officer, Office of Ocean and Polar Affairs, Department of State.

[FR Doc. 2025-23062 Filed 12-16-25; 8:45 am]

BILLING CODE 4710-05-P